NATIONAL TRANSPORTATION SAFETY BOARD

Sunshine Act Meeting

Time: 9:30 a.m., Tuesday, May 2, 2006.

Place: NTSB Conference Center, 429 L'Enfant Plaza, SW., Washington, DC 20594.

Status: The two items are open to the public.

Matters to be Considered:

7777 Aircraft Accident Brief—Crash During Takeoff in Icing conditions, Canadair, Ltd., CL-600-2A12, N873G, Montrose, Colorado, November 28, 2004.

7778 Aircraft Accident Report—Crash During Approach to Landing, Air Tahoma, Inc., Flight 185, Convair 580, N586P, Covington, Kentucky, August 13, 2004.

News Media Contact: Ted Lopatkiewicz, Telephone: (202) 314-6100.

Individuals requesting specific accommodations should contact Chris Bisett at (202) 314-6305 by Friday, April 28, 2006.

The public may view the meeting via a live or archived Web cast by accessing a link under “News & Events” on the NTSB home page at http://www.ntsb.gov.

FOR FURTHER INFORMATION CONTACT: Vicky D'Onofrio, (202) 314-6410.

Dated: April 21, 2006.
Vicky D'Onofrio,
Federal Register Liaison Officer.

[FR Doc. 06-3944 Filed 4-21-06; 1:51 pm]

BILLING CODE 7533-01-M